DEPARTMENT OF DEFENSE

Department of the Navy

[Docket ID: USN-2025-HQ-0037]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, ATTN: Mr. Mark Kazzi, or call 571-256-8883.

SUPPLEMENTARY INFORMATION:

Title; Associated Form; and OMB Number: Marine Corps Applied Suicide Intervention Skills Training (ASIST) Surveys; OMB Control Number 0712-ASIS.

Needs and Uses: Data collection is necessary to determine the effectiveness of the LivingWorks' Applied Suicide Intervention Skills Training (ASIST) used by the Marine Corps as part of its suicide prevention program and to assess whether it is an efficient use of the Marine Corps' resources. ASIST is widely used throughout the Marine Corps. Many chaplains have been trained to teach the class, and participants can be at the unit, command, or even family service center level. However, it currently is offered on an ad hoc basis—it is not a program of record, commands are not required to use it, and it is not conducted at regular or standardized training intervals within a standardized Training Effectiveness Evaluation Plan.

The ASIST basic course is a two-day in person workshop that teaches participants to recognize someone at-risk of suicide and then provide a skilled intervention and develop a safe plan with the at-risk individual. The efficiency and effectiveness of the ASIST program for the Marine Corps has never been evaluated. To assess the efficiency and effectiveness of the ASIST program for the Marine Corps, the Marine Corps has contracted CNA to gather data from current and past course participants. Questions in the ASIST Basic survey ask participants about expected outcomes of the ASIST course: knowledge, attitudes, and confidence in suicide intervention. ASIST participants that choose to become ASIST trainers attend ASIST Training for Trainers (T4T). T4T is a five-day in-person training that prepares participants to become ASIST trainers by teaching them skills to conduct the ASIST 2-day workshop. Questions in the ASIST T4Tsurvey ask questions about the sufficiency of the T4T course and the ability of trainers to adapt the course to the Marine Corps population. At the completion of the study, CNA will provide a report to the Chaplain of the Marine Corps detailing findings from the surveys and interviews. Only aggregate data will be reported. We expect that ASIST course participants will respond to the survey to be active participants in shaping future Marine Corps programming.

Affected Public: Individuals or households (Active Duty Marines).

Annual Burden Hours: 325.

Number of Respondents: 1,300.

Responses per Respondent: 1.

Annual Responses: 1,300.

Average Burden per Response: 15 minutes.

Frequency: One-time.

Dated: July 22, 2025.
Aaron T. Siegel,
Alternate OSD Federal Register Liaison Officer, Department of Defense.

[FR Doc. 2025-14015 Filed 7-24-25; 8:45 am]

BILLING CODE 6001-FR-P